DEPARTMENT OF HOMELAND SECURITY

U.S. Customs and Border Protection

DEPARTMENT OF THE TREASURY

19 CFR Part 12

[CBP Dec. 16-10]

RIN 1515-AE14

Import Restrictions Imposed on Archaeological and Ethnological Material of Syria

AGENCY: U.S. Customs and Border Protection, Department of Homeland Security; Department of the Treasury.

ACTION: Final rule.

SUMMARY: This document amends the U.S. Customs and Border Protection (CBP) regulations to reflect the imposition of import restrictions on archaeological and ethnological material of Syria pursuant to the Protect and Preserve International Cultural Property Act. This document also contains the Designated List of Archaeological and Ethnological Material of Syria that describes the types of objects or categories of archaeological or ethnological material that are subject to import restrictions, if unlawfully removed from Syria on or after March 15, 2011.

DATES: Effective Date: August 15, 2016.

FOR FURTHER INFORMATION CONTACT: For legal aspects, Lisa L. Burley, Chief, Cargo Security, Carriers and Restricted Merchandise Branch, Regulations and Rulings, Office of Trade, (202) 325-0215. For operational aspects, William R. Scopa, Branch Chief, Partner Government Agency Branch, Trade Policy and Programs, Office of Trade, (202) 863-6554, William.R.Scopa@cbp.dhs.gov.

SUPPLEMENTARY INFORMATION:

Background

United Nations Security Council Resolution 2199, adopted on February 12, 2015, condemns the destruction of cultural heritage in Syria, particularly by the terrorist organizations Islamic State in Iraq and the Levant (ISIL) and Al-Nusrah Front (ANF), and obligates all member nations to assist in the protection of Syria's cultural heritage. Paragraph 17 of the Resolution states that all Member States shall take appropriate steps to prevent the trade in Syrian cultural property and other items of archaeological, historical, cultural, rare scientific, and religious importance illegally removed from Syria since March 15, 2011, including by prohibiting cross-border trade in such items, thereby allowing for their eventual safe return to the Syrian people. The United States strongly supported this Resolution because “this resolution both cuts off a source of ISIL revenue and helps protect an irreplaceable cultural heritage, of the region and of the world.” See “Explanation of Vote at a Security Council Session on Threats to International Peace and Security Caused by Terrorist Threats,” Ambassador Samantha Power, U.S. Permanent Representative to the United Nations, New York City, February 12, 2015.

For decades, the United States has shared the international concern for the need to protect endangered cultural property. The appearance in the United States of stolen or illegally exported artifacts from other countries where there has been pillage has, on occasion, strained our foreign and cultural relations. This situation, combined with the concerns of museum, archaeological, and scholarly communities, was recognized by the President and Congress. It became apparent that it was in the national interest of the United States to join with other countries to suppress illegal trafficking of such objects in international commerce.

The United States joined international efforts and actively participated in deliberations resulting in the 1970 United Nations Educational, Scientific and Cultural Organization (UNESCO) Convention on the Means of Prohibiting and Preventing the Illicit Import, Export and Transfer of Ownership of Cultural Property (823 U.N.T.S. 231 (1972)). In 1983, pursuant to its international obligations arising under the 1970 UNESCO Convention, the United States enacted the Convention on Cultural Property Implementation Act (Pub. L. 97-446, 19 U.S.C. 2601 et seq.) (CCPIA). Implementation of the 1970 UNESCO Convention through the CCPIA promotes U.S. leadership in achieving greater international cooperation toward preserving cultural treasures that are of importance to the nations from which they originate and greater international understanding of mankind's common heritage.

Since 1983, import restrictions have been imposed on archaeological and ethnological material from a number of States Parties to the 1970 Convention. These restrictions have been imposed as a result of requests received from those nations under Article 9 of the 1970 UNESCO Convention and pursuant to provisions of the CCPIA that allow for emergency action and international agreements between the United States and other countries.

Protect and Preserve International Cultural Property Act

The Protect and Preserve International Cultural Property Act (Pub. L. 114-151) (“the Act”) directs the President to exercise the authority of the President under section 304 of the CCPIA (19 U.S.C. 2603) to impose import restrictions set forth in section 307 of the CCPIA (19 U.S.C. 2606) with respect to any archaeological or ethnological material of Syria not later than 90 days after the date of enactment of the Act, without regard to whether Syria is a State Party to the 1970 UNESCO Convention, and without the need for a formal request from the Government of Syria. Section 3(c) of the Act provides that the President is authorized to waive the import restrictions.

On August 2, 2016, the Assistant Secretary for Educational and Cultural Affairs, Department of State, acting pursuant to delegated authority under the Act, made a Decision that, pursuant to the CCPIA, import restrictions be imposed with respect to any archaeological and ethnological material of Syria, as defined in the Act.

More information on import restrictions may be obtained from the Cultural Property Protection section of the Department of State's Cultural Heritage Center Web site (http://culturalheritage.state.gov/). Importation of designated archaeological and ethnological material of Syria is restricted unless the conditions set forth in 19 U.S.C. 2606 and 19 CFR 12.104c are met. Below is the Designated List of Archaeological and Ethnological Material of Syria that describes the types of objects or categories of archaeological or ethnological material that are subject to import restrictions, if unlawfully removed from Syria on or after March 15, 2011. This list was prepared in consultation with the Department of State pursuant to section 305 of the CCPIA (19 U.S.C. 2604).

Designated List of Archaeological and Ethnological Material of Syria

Table of Contents

I. Stone

II. Metal

III. Ceramic, Clay, and Faience

IV. Wood

V. Glass

VI. Ivory, Bone, and Shell

VII. Plaster and Stucco

VIII. Textile

IX. Parchment, Paper, and Leather

X. Painting and Drawing

XI. Mosaic

XII. Writing

Chronology

The archaeological and ethnological material of Syria represent the following periods and cultures: Paleolithic, Neolithic, Bronze and Iron Ages, Persian, Greco-Roman, Byzantine, and Islamic until the end of the Ottoman Period, a total span from roughly 1,000,000 BC to 1920 AD. Syria has been home to a range of diverse cultures, resulting in a vast array of archaeological and ethnological material in a variety of media. The import restriction covers all archaeological and ethnological material of Syria (as defined in section 302 of the Convention on Cultural Property Implementation Act (19 U.S.C. 2601)), including but not limited to the following types of material.

I. Stone

A. Sculpture

1. Architectural elements, from temples, tombs, palaces, commemorative monuments, and domestic architecture, including columns, capitals, bases, lintels, jambs, friezes, pilasters, engaged columns, waterspouts, door leaves, mihrabs (prayer niches), fountains, and blocks from walls, floors, and ceilings. Often decorated in relief with pre-Classical (especially Neo-Hittite and Assyrian), Greco-Roman, Christian, and Islamic ornamental motifs and inscriptions. The most common architectural stones are limestone, basalt, and marble.

2. Statues, large- and small-scale, often depicting human, mythological, and animal subjects, in a great variety of styles, including but not limited to Sumerian, Assyrian, Neo-Hittite, Hellenistic, Roman, Palmyrene, and Byzantine. The most popular stones are limestone, basalt, and marble, but other types of stone are used as well.

3. Relief sculpture, large- and small-scale, including steles, wall slabs, plaques, coffins, altars, and tombstones, in a great variety of styles, including but not limited to Sumerian, Assyrian, Neo-Hittite, Hellenistic, Roman, Palmyrene, Byzantine, and Islamic. Used for commemorative, funerary, and decorative purposes. The most popular stones are limestone, basalt, and marble, but other types of stone are used as well.

4. Inlay sculpture. Large-scale examples with friezes of sculpted stone figures set into an inlaid stone or bitumen background. Small-scale examples with flat, cut-out figures in light-colored stones set against dark stone or bitumen backgrounds decorate boxes and furniture. Subjects include narrative scenes such as warfare and banqueting.

B. Seals

1. Cylinder seals: A cylindrical bead, usually ranging in size from 2 cm to 8 cm in height, with a hole pierced through its vertical axis and engraved images carved around the outer circumference. Made from a great variety of stones, including but not limited to marble, serpentine, hematite, chalcedony, lapis lazuli, agate, jasper, turquoise, garnet, carnelian, agate, quartz, onyx, sardonyx, heliotrope, jasper, rock crystal, amethyst, and goethite.

2. Stamp seals: Stones carved into animal or geometric shapes, including but not limited to square, circular, lentoid, hemispheric, gable-backed, eight-sided pyramidal, cones, cameos (carved in raised relief), ellipsoidal, and domical, with a flat surface engraved with a wide range of images. Some types have knobs on their top sides.

C. Vessels and containers—Includes conventional shapes such as bowls, cups, and jars, and vessels having the form of animals.

D. Tools and Weapons—Chipped stone (usually flint and obsidian) includes large and small blades, borers, scrapers, sickles, awls, harpoons, cores, and arrow heads. Ground stone types include mortars, pestles, millstones, querns, whetstones, choppers, axes, hammers, molds, loom weights, fishnet weights, standardized weights, and mace heads.

E. Jewelry—Jewelry of or decorated with colored and semi-precious stones, including necklaces, pendants, cameos, crowns, earrings, finger rings, bracelets, anklets, belts, girdles, pins, hair ornaments, arm bands, and beads.

F. Ostraca—Chips of stone used as surface for writing or drawing.

G. Tablets—Inscribed with pictographic, cuneiform, Phoenician, Aramaic, Greek, Latin, and Arabic scripts.

II. Metal

A. Sculpture

1. Statues, large- and small-scale, including of deities, humans (often standing, sometimes with raised arms and/or wearing helmets), and animals (such as lions), similar to those in stone. The most common materials are bronze and copper alloys, and gold and silver are used as well.

2. Relief sculpture, including plaques and appliqués.

B. Vessels and containers—Includes conventional shapes such as bowls, cups, jars, plates, platters, cauldrons, and lamps, and vessels in the form of humans, animals, hybrids, plants, and combinations or parts thereof. Decoration includes fluting, incision, appliqué, and figurative elements (such as mythological scenes, animals, festivities, and hunting). Examples include but are not limited to:

• Shallow bronze bowls bearing concentric rings of complex imagery of animals, festivities, mythological scenes, and/or militaristic vignettes on their outside (they also occur in silver and gilt silver);

• Large bronze cauldrons and cauldron stands, some of which include cast or incised decorations in the shape of bulls, griffins, or human heads;

• Ewers with bulbous bodies, long necks and handles, dating to the Sasanian and Abbasid periods; and

• Copper-alloy metalwork in the Islamic period engraved with inscriptions and elaborate floral and geometric designs, sometimes with enamel and silver inlays. Forms include bowls, ewers, candlesticks, and astrolabes.

C. Objects of daily use

1. Musical instruments, including trumpets, clappers, and sistra; furniture parts, such as chair legs, struts, and openwork panels, cast and hammered in copper/bronze; metal mirror backs, often incised with decoration.

2. Copper/bronze weights found in a variety of shapes, including that of a recumbent lion.

3. Architectural elements in copper/bronze, including door-pivots, knobs, and nails.

D. Tools—Including but not limited to axes, adzes, saws, drills, chisels, knives, hooks, pins, needles, tongs, tweezers, awls, and scientific instruments such as astrolabes. Usually in bronze and copper alloys, later joined by iron; ceremonial forms might be in gold.

E. Weapons and armor

1. Weapons include maceheads, knives, swords, curved swords, axes (including duckbill and fenestrated types), arrows, and spears. Usually in bronze and copper alloys, later joined by iron and, by the 1st millennium AD, steel as well. Later swords may have inscriptions in Arabic on the blade and/or hilt. Ceremonial forms might be in gold. In the later Islamic periods, pistols and other firearms appear.

2. Early armor consisting of small metal scales, originally sewn to a backing of cloth or leather, later augmented by helmets, body armor, shields, and horse armor. Armor and weapons of the Islamic period can be decorated with arabesque designs and inscriptions.

F. Jewelry, amulets, and seals

1. Jewelry of gold, silver, electrum, copper, and iron for personal adornment, including necklaces, pectorals, pendants in forms such as animals and insects, spirals, wire, arm bands, rosettes, hairpins, fibulae (triangular safety pins for garments), crowns and other headdresses, earrings, bracelets, anklets, belts, and finger rings.

2. Amulets in the shape of humans, animals, hybrids, plants, and combinations or parts thereof.

G. Liturgical objects—Including censers, crosses, chalices, Bible caskets, lamps, Kiddush cups, candelabra, and Torah pointers and finials.

H. Tablets—Usually of copper-alloy, lead, gold, and silver, inscribed with cuneiform, Phoenician, Aramaic, Greek, Latin, and Arabic scripts.

I. Coins—In copper or bronze, silver and gold.

1. Coins in Syria have a long history and exist in great variety, spanning the Achaemenid Persian, Hellenistic Seleucid and Ptolemaic, Roman, Sasanian, and Islamic periods. Coins from neighboring regions circulated in Syria as well. Some major mints for coinage that circulated in Syria in various periods include Emesa, Antioch, Apamea, Damascus, Beroea, and Laodicea.

2. Achaemenid coins include silver drachms stamped on the obverse with the head of the king and on the reverse with an altar.

3. Coin types and materials for coins minted or circulated in Syria during the Hellenistic Seleucid and Ptolemaic periods include gold and silver staters and obols, bronze or silver drachms, hemidrachms, tetradrachms, and smaller bronze and lead coins. These coins have a wide variety of decorative elements. Male and female busts (of kings, such as Seleucus, and queens, such as Cleopatra, or sometimes deities) are usually found on the front. Seated archers, seated gods such as Zeus, winged Victory, Tyche, and Herakles, other Greco-Roman mythological subjects, animals such as lions and elephants, palm trees, and ships are usually on the reverse of the Seleucid and Ptolemaic coins, which are often inscribed in Greek.

4. Roman coins minted and circulated in Syria during the Roman period come in a variety of denominations and weights and were struck primarily in silver and bronze, though examples (sesterces) of brass also appear. The front usually has an image of the emperor; sometimes, other notable personages (e.g., Julia Domna) might appear. Subjects shown on the reverse include seated and standing deities, wreaths, temples and altars, mythological scenes, and eagles. Inscriptions are usually in Latin, but sometimes also in Greek. Late Roman (Byzantine) coins are similar, but the reverse often shows Christian iconography (e.g., crosses), and inscriptions are in Greek.

5. Sasanian period coins are typically silver drachms with an image of the ruler on the obverse and a religious scene with a fire altar on the reverse.

6. Islamic coins are of gold, silver, bronze, and copper and include examples from the Ummayad, Abbasid, Ghaznavid, Fatimid, Ayyubid, Seljuq (including Zengid), Timurid, Mamluk, Safavid, and Ottoman periods. Most are stamped on both sides with inscriptions in Arabic, although a few types have an image on one side and an inscription on the other.

III. Ceramic, Clay, and Faience

A. Sculpture

1. Terracotta figurines of humans and animals are quite common and may be highly stylized. Some examples are sculptures while others are made from molds. Also molds for making such figurines.

2. Terracotta plaques, either made from molds or sculpted, with a variety of subjects. Also terracotta molds for making such plaques.

3. Terracotta models, including furniture such as chairs and beds, chariots, boats, and buildings.

B. Architectural decorations

1. Bronze and Iron Age ceramic wall decorations, including cones (sometimes with the flat end painted) and decorated knobs.

2. Islamic architectural ornaments, including carved and molded brick, and glazed ceramic tile wall and floor ornaments and panels.

C. Vessels and containers

1. Ceramic vessels occur throughout Syria's history in a wide range of shapes, sizes, fabrics, and decorative treatments. They may be handmade or wheel-made, plain or decorated with geometric, natural, or stylized motifs, with surfaces that include but are not limited to plain, slipped, burnished, varnished, painted, combed, incised, glazed, barbotine, and/or molded relief.

2. All ceramics from the Ceramic Neolithic through the Ottoman Period. Examples include but are not limited to:

• Decorated and undecorated Pre-Classical pottery, including Halaf, Ubaid, Uruk, and local and imported Bronze and Iron Age forms;

• Greco-Roman pottery, including vessels with rilled decoration and terra sigillata, a high quality table ware made of red to reddish brown clay, and covered with a glossy slip;

• Islamic plain, glazed, molded, and painted ceramics, including Raqqa wares and lusterware;

• Bathtub, slipper-shaped, cylindrical, and rectangular coffins from all periods. Coffin lids may be modeled with human features; and

• Pilgrim flasks from all periods, characterized by flat disc-shaped sides and a single drinking spout, often flanked by stirrup handles.

D. Objects of daily use

1. Including but not limited to game pieces, loom weights, toys, and lamps.

2. Bread molds of various shapes and patterns.

3. Stamp and cylinder seals made from fired clay, faience, or a composite material related to faience.

E. Writing

1. Tablets, covered with wedge-shaped cuneiform characters or incised pictographs. They are usually unbaked and must be handled with extreme care. Shapes range from very small rounded disk forms, to small square and rectangular pillow-shaped forms, to larger rectangular tablets. They sometimes are found with an enclosing clay envelope, which is also inscribed. Both tablets and envelopes may be impressed with cylinder or stamp seals.

2. Bricks of fired clay inscribed or stamped with cuneiform inscriptions that are often placed in small frames on one of the sides. Approximately 30 × 30 × 10 cm.

3. Cones of fired clay. The large end is sometimes flat, sometimes mushroom shaped. Inscribed cuneiform characters can cover the head and/or body of the cone. Approximately 15 cm long.

4. Cylinders: Large cuneiform-inscribed objects can take the form of a multisided prism or barrel. The inscription typically covers all sides of the object. Approximately 20-30 cm high.

5. Ostraca, pottery shards used as surface for writing or drawing.

IV. Wood

A. Architectural elements—Including carved and inlaid wooden walls, floors, panels, screens, balconies, stages, doors, ceilings, beams, altars, and vaulting and elements thereof (e.g., muqarnas), often decorated with stars, floral motifs, geometric patterns, religious iconography (e.g., crosses), and Arabic script. Elements may comprise most or all of entire rooms.

B. Religious equipment—Including pulpits (minbars) and prayer niches (mihrabs), often intricately carved and with accompanying Arabic script decoration, and sometimes inlaid; book holders, lecterns, and cabinets; smaller objects such as cases/chests.

C. Objects of daily use—Including furniture such as chairs, stools, and beds, chests and boxes, writing and painting equipment, musical instruments (e.g., ouds and rababa [fiddles]), utensils, and older game boxes and pieces.

D. Tools and Weapons—Including adzes, axes, bow drills, carpenters' levels and squares, bows, arrows, spears.

V. Glass

A. Late Bronze Age and Iron Age glass containers, including but not limited to bowls, bottles, and juglets, typically small and often elaborately decorated with multi-colored bands.

B. Roman vessels, often hand-blown, in a great variety of shapes, including but not limited to bottles, flasks, and pitchers.

C. Islamic vessels and containers in glass in a great variety of shapes, including but not limited to bowls, bottles, flasks, and glass and enamel mosque lamps.

VI. Ivory, Bone, and Shell

A. Sculpture

1. Ivory plaques sculpted in relief are a hallmark of Syrian sculpture. They were used in particular as parts of furniture; they may also have been components of tools/weapons and placed on walls as artistic elements. Decorative motifs include animals, humans, plants, combat, hunting, feasting, mythological creatures (e.g., griffins), and mythological and religious scenes, among others. In some periods, Syrian ivories may look Egyptian (“Egyptianizing”).

2. Statuettes in the round of ivory, including human, animal, and mythological figures and parts thereof.

B. Objects of daily use

1. Ivory, bone, shell, and mother of pearl were used either alone or as inlays in luxury objects including furniture, chests and boxes (pyxis/pyxides), writing and painting equipment, musical instruments (e.g., flutes), games (e.g., dice), cosmetic containers, combs, jewelry, mirror backs and handles, amulets, fly whisk handles, and seals. Ivory objects from Islamic periods may have Arabic inscriptions.

2. Utilitarian objects of bone and ivory include but are not limited to utensils and tools such as awls and needles.

VII. Plaster and Stucco

A. Plaster—Pre-Pottery Neolithic containers were often made of plaster. In later periods, painted or gilded plaster was used for jewelry and other objects in imitation of expensive materials.

B. Stucco—Islamic architectural decorations in stucco, including vegetal forms and sculptures of humans and animals.

VIII. Textile

A. Greco-Roman and Byzantine textiles and fragments in linen, wool, cotton and silk, including but not limited to garments, blankets, bags, and hangings.

B. Islamic textiles and fragments in wool, cotton, and silk, including garments, blankets, bags, hangings, and rugs.

IX. Parchment, Paper, and Leather

A. Parchment

1. Manuscripts and portions thereof from the Byzantine and Early Islamic periods, including but not limited to liturgical works and Qur'ans, either on a scroll, single leaves, or bound as a book (or “codex”), and written in Aramaic, Greek, Latin, and Arabic, sometimes with painted illustrations and gold leaf, on specially prepared animal skins, known as parchment.

2. Torahs and portions thereof: Scrolls bearing Hebrew writing in black ink, wound around two wooden rods, and originally housed in a cylindrical wooden case.

B. Paper

1. Qur'ans and manuscripts, and individual pages thereof, sometimes illustrated, written on paper and bound as books.

2. Rare printed books.

3. Religious, ceremonial, literary, and administrative material, including but not limited to maps, archival materials, photographs, and other rare or important documentary or historical material.

C. Leather

1. Armor, sandals, clothing, and horse trappings from the Islamic period.

2. Early texts written on leather. Manuscripts and rare books bound in leather.

X. Painting and Drawing

A. Wall Painting—These are usually painted on lime plaster in the fresco method. Syrian wall paintings come from many periods and depict a wide range of subjects. They are found in both religious and secular buildings.

1. Pre-classical paintings may show religious scenes, such as worshippers approaching standing and seated deities, sometimes with sacrificial animals, scenes with the ruler, mythological vignettes and creatures, and palm trees. Later paintings depict courtly and militaristic themes, as well as the ruler and high officials.

2. Classical period paintings generally show biblical and religious scenes. Christian paintings may show personages such as Jesus, Virgin Mary, the apostles, and angels, and include iconography such as crosses. Jewish paintings may include iconography such as menorahs. Paintings from the Roman and other polytheistic traditions may depict deities such as winged Victory and mythological scenes. Christian wall paintings continue into the Byzantine period.

3. Islamic period paintings may depict courtly themes (e.g., musicians, riders on horses) and city views, among other topics.

B. Byzantine panel paintings (icons)—Generally portray Jesus, Mary, Christian saints, religious images, and scenes of biblical events. Surrounding paintings may contain animal, floral, or geometric designs, including borders and bands. May be partially covered with gold or silver, sometimes encrusted with semi-precious or precious stones, and are usually painted on a wooden panel, often for inclusion in a wooden screen (iconastasis). May also be painted on ceramic.

XI. Mosaic

A. Floor mosaics—Greco-Roman and Byzantine, including landscapes, humans or gods, mythological scenes, and quotidian activities such as hunting and fishing. There may also be vegetative, floral, or decorative motifs. They are made from stone cut into small pieces (tesserae) and laid into a plaster matrix.

B. Wall and ceiling mosaics—generally portray religious images, scenes of Biblical and Qur'anic events, and views of cities and buildings. Surrounding panels may contain animal, floral, or geometric designs. Similar technique to floor mosaics, but may include tesserae of both stone and glass.

XII. Writing

On paper, parchment, leather, wood, ivory, stone, metal, textile, stucco, clay, mosaic, painting, and ceramic, in pictographic, cuneiform, Phoenician, Aramaic, Syriac, Hebrew, Greek, Latin, and Arabic scripts.

Inapplicability of Notice and Delayed Effective Date

Under section 553 of the Administrative Procedure Act (“APA”) (5 U.S.C. 553), agencies amending their regulations generally are required to publish a notice of proposed rulemaking in the Federal Register that solicits public comment on the proposed amendments, consider public comments in deciding on the final content of the final amendments, and publish the final amendments at least 30 days prior to their effective date. However, section 553(a)(1) of the APA provides that the standard prior notice and comment procedures do not apply to agency rulemaking that involves the foreign affairs function of the United States. CBP has determined that this final rule involves a foreign affairs function of the United States as it implements authority granted to the President under the Protect and Preserve International Cultural Property Act and section 304 of the Convention on Cultural Property Implementation Act (19 U.S.C. 2603) to impose import restrictions on archaeological or ethnological material of Syria. The Protect and Preserve International Cultural Property Act and this rule do no more than carry out the obligations of the United States under the 1970 UNESCO Convention and Chapter VII of the United Nations Charter. Accordingly, the rulemaking requirements under the APA do not apply, and this final rule will be effective upon publication.

In addition, section 553(b)(B) of the APA provides that notice and public procedure are not required when an agency for good cause finds them impracticable, unnecessary, or contrary to public interest. CBP has determined that providing prior notice and public procedure for these regulations would be impracticable, unnecessary, and contrary to the public interest because immediate action is necessary, and contemplated, in order to respond to the ongoing pillage of Syrian cultural antiquities and to avoid damage to those antiquities in Syria until hostilities have ceased. Any delay in this action will likely result in further damage to the Syrian cultural antiquities that Congress was seeking to protect with the Protect and Preserve International Cultural Property Act.

Finally, section 553(d)(3) of the APA permits agencies to make a rule effective less than 30 days after publication when the agency finds that good cause exists for dispensing with a delayed effective date. For the reasons described above, CBP finds that good cause exists to make these regulations effective without a delayed effective date.

Regulatory Flexibility Act

Because no notice of proposed rulemaking is required, the provisions of the Regulatory Flexibility Act (5 U.S.C. 601 et seq.) do not apply.

Executive Order 12866

CBP has determined that this document is not a regulation or rule subject to the provisions of Executive Order 12866 of September 30, 1993 (58 FR 51735, October 4, 1993), because it pertains to a foreign affairs function of the United States, as described above, and therefore is specifically exempted by section 3(d)(2) of Executive Order 12866.

Signing Authority

This regulation is being issued in accordance with 19 CFR 0.1(a)(1), pertaining to the Secretary of the Treasury's authority (or that of his/her delegate) to approve regulations related to customs revenue functions.

List of Subjects in 19 CFR Part 12

Cultural property, Customs duties and inspection, Imports, Prohibited merchandise.

Amendment to CBP Regulations

For the reasons set forth above, part 12 of title 19 of the Code of Federal Regulations (19 CFR part 12), is amended as set forth below:

PART 12—SPECIAL CLASSES OF MERCHANDISE

1. The general authority citation for part 12 continues to read, and the specific authority for § 12.104k is added to read, as follows:

Authority: 5 U.S.C. 301; 19 U.S.C. 66, 1202 (General Note 3(i), Harmonized Tariff Schedule of the United States (HTSUS)), 1624;

* * * * *

Section 12.104k also issued under Pub. L. 114-151, 130 Stat. 369; 19 U.S.C. 2612;

* * * * *

2. Add § 12.104k to read as follows:

§ 12.104k Emergency protection for Syrian cultural antiquities.

(a) Restriction. Importation of archaeological or ethnological material of Syria is restricted pursuant to the Protect and Preserve International Cultural Property Act (Pub. L. 114-151) and section 304 of the Convention on Cultural Property Implementation Act (19 U.S.C. 2603), unless a restriction is waived pursuant to section 3(c) of the Protect and Preserve International Cultural Property Act.

(b) Description of restricted material. The term “archaeological or ethnological material of Syria” means cultural property as defined in section 302 of the Convention on Cultural Property Implementation Act (19 U.S.C. 2601) that is unlawfully removed from Syria on or after March 15, 2011. CBP Decision 16-10 sets forth the Designated List of Archaeological and Ethnological Material of Syria that describes the types of objects or categories of archaeological or ethnological material that are subject to import restrictions.

R. Gil Kerlikowske,
Commissioner, U.S. Customs and Border Protection.
Approved: August 11, 2016.
Timothy E. Skud,
Deputy Assistant Secretary of the Treasury.

[FR Doc. 2016-19491 Filed 8-11-16; 4:15 pm]

BILLING CODE 9111-14-P